NUCLEAR REGULATORY COMMISSION

[Docket No. 72-1050; NRC-2016-0231]

Interim Storage Partners LLC's Consolidated Interim Spent Fuel Storage Facility

AGENCY: Nuclear Regulatory Commission.

ACTION: Environmental impact statement; reopening of scoping comment period.

SUMMARY: The U.S. Nuclear Regulatory Commission (NRC) is requesting public comments on the scope of the NRC's Environmental Impact Statement (EIS) for the Interim Storage Partners LLC (ISP) proposed consolidated interim storage facility for spent nuclear fuel, to be located on the Waste Control Specialists LLC (WCS) site in Andrews County, Texas. ISP requested on June 8, 2018, that the NRC resume its review, which had been suspended on April 18, 2017, and provided a revised license application. The NRC is reopening the public scoping comment period that had closed on April 28, 2017, to allow more time for members of the public to develop and submit their comments.

DATES: Submit comments by October 19, 2018. Comments received after this date will be considered if it is practical to do so, but the Commission is able to ensure consideration only for comments received before this date.

ADDRESSES: You may submit comments by any of the following methods:

• Federal Rulemaking website: Go to http://www.regulations.gov and search for Docket ID NRC-2016-0231. Address questions about NRC dockets to Jennifer Borges; telephone: 301-287-9127; email: Jennifer.Borges@nrc.gov. For technical questions, contact the individual listed in the FOR FURTHER INFORMATION CONTACT section of this document.

• Mail comments to: May Ma, Office of Administration, Mail Stop: TWFN-7-A60M, U.S. Nuclear Regulatory Commission, Washington, DC 20555-0001.

• Email Comments to: You may email scoping comments to the Project's email address: WCS_CISF_EIS@nrc.gov.

For additional direction on obtaining information and submitting comments, see “Obtaining Information and Submitting Comments” in the SUPPLEMENTARY INFORMATION section of this document.

FOR FURTHER INFORMATION CONTACT: James Park, Office of Nuclear Material Safety and Safeguards, U.S. Nuclear Regulatory Commission, Washington DC 20555-0001; telephone: 301-415-6954; email: James.Park@nrc.gov.

SUPPLEMENTARY INFORMATION:

I. Obtaining Information and Submitting Comments

A. Obtaining Information

Please refer to Docket ID NRC-2016-0231 when contacting the NRC about the availability of information for this action. You may obtain publicly-available information related to this action by any of the following methods:

• Federal Rulemaking website: Go to http://www.regulations.gov and search for Docket ID NRC-2016-0231.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to PDR.Resource@nrc.gov. Documents related to WCS' license application can be found under Docket Number 72-1050.

• NRC's PDR: You may examine and purchase copies of public documents at the NRC's PDR, Room O1-F21, One White Flint North, 11555 Rockville Pike, Rockville, Maryland 20852.

• Project web page: Information related to the ISP CISF project can be accessed on the NRC's project web page at: https://www.nrc.gov/waste/spent-fuel-storage/cis/waste-control-specialist.html.

B. Submitting Comments

Please include Docket ID NRC-2016-0231 in your comment submission. Comments received during this scoping period will be considered by the NRC, along with all comments received during the previous period, in determining the scope of the EIS. Scoping comments submitted during the previous period need not be resubmitted during this scoping period.

The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On April 28, 2016, WCS submitted a license application to the NRC for a proposed consolidated interim storage facility for spent nuclear fuel (ADAMS Accession No. ML16132A533). The NRC accepted the WCS application for detailed review on January 26, 2017 (ADAMS Accession No. ML17018A168). On November 14, 2016, the NRC opened the public scoping period for its EIS on WCS' license application for a proposed consolidated interim storage facility for spent nuclear fuel (81 FR 79531). On April 18, 2017, WCS requested that the NRC temporarily suspend its review (ADAMS Accession No. ML17110A206). The EIS public scoping comment period closed on April 28, 2017 (82 FR 14039).

On June 8, 2018, ISP (a joint venture between WCS and Orano CIS LLC) requested that NRC resume its detailed review and submitted a revised license application (ADAMS Accession No. ML18166A003). On July 19, 2018, ISP provided an update to its application (ADAMS Accession No. ML18206A482). The NRC has decided to reopen the EIS public scoping comment period on this application until 45 days from October 19, 2018, to allow more time for members of the public to submit their comments.

Dated at Rockville, Maryland, this 28th day of August 2018.
For the Nuclear Regulatory Commission.
Craig G. Erlanger,
Director, Division of Fuel Cycle Safety, Safeguards, and Environmental Review, Office of Nuclear Material Safety and Safeguards.

[FR Doc. 2018-19058 Filed 8-31-18; 8:45 am]

BILLING CODE 7590-01-P